DEPARTMENT OF THE INTERIOR

Bureau of Land Management

[CO-01-134-1220-241A]

McInnis Canyons National Conservation Area Advisory Council Meeting

AGENCY: Bureau of Land Management, Interior.

ACTION: Notice of meetings.

SUMMARY: The McInnis Canyons National Conservation Area (MCNCA) Advisory Council will hold its first bi-monthly meeting of 2005 on February 2, 2005. The meeting will begin at 3 p.m. and will be held at the Mesa County Administration Building; 544 Rood Avenue, Grand Junction, CO. Additional meetings will also be held on April 6 and June 1 of 2005 at the same location and the same time. Additional meetings for 2005 will be determined at the February 2 meeting and published in the Federal Register.

DATES: The meeting will be held on February 2, 2005.

ADDRESSES: For further information or to provide written comments, please contact the Bureau of Land Management (BLM), 2815 H Road, Grand Junction, Colorado 81506; (970) 244-3000.

SUPPLEMENTARY INFORMATION: The Colorado Canyons National Conservation Area was established on October 24, 2000 when the Colorado Canyons National Conservation Area and Black Ridge Wilderness Act of 2000 (the Act) was signed by the President. The Act required that the Advisory Council be established to provide advice in the preparation and implementation of the CCNCA Resource Management Plan. The name was congressionally change at the end of 2004 from Colorado Canyons National Conservation Area to McInnis Canyons National Conservation Area.

The MCNCA Advisory Council will meet on Wednesday, February 2, 2005 at the Mesa County Administration Building; 544 Rood Avenue, Grand Junction, CO, beginning at 3 p.m. The agenda topics for this meeting are:

(1) The re-election of council officials;

(2) MCNCA Resource Management Plan implementation and monitoring strategy;

(3) Budgetary requirements for upcoming fiscal years;

(4) Public comment period;

(5) Agenda for next meeting;

Beginning February of 2005, the MCNCA Advisory Council meetings will be held bi-monthly on the first Wednesday of every other month through June at the same time and location. The dates for these meetings are February 2, 2005; April 6, 2005; and June 1, 2005. Additional meetings for 2005 will be determined at the February meeting.

Topics of discussion for future meetings will include completion of an implementation/business plan, refinement of a monitoring strategy, partnerships, interpretation, adaptive management, socioeconomics, and other issues as appropriate.

All meetings will be open to the public and will include a time set aside for public comment. Interested persons may make oral statements at the meetings or submit written statements at any meeting. Per-person time limits for oral statements may be set to allow all interested persons an opportunity to speak.

Summary minutes of all Council meetings will be maintained at the Bureau of Land Management Office in Grand Junction, Colorado. They are available for public inspection and reproduction during regular business hours within thirty (30) days following the meeting. In addition, minutes and other information concerning the MCNCA Advisory Council, can be obtained from the MCNCA Web site at: http://www.co.blm.gov/gjra/mcnca/mcncahome.htm, which will be updated following each Advisory Council meeting.

Dated: January 6, 2005.
Paul H. Peck,
Manager, McInnis Canyons National Conservation Area.

[FR Doc. 05-683 Filed 1-12-05; 8:45 am]

BILLING CODE 4310-JB-P